DEPARTMENT OF HOUSING AND URBAN DEVELOPMENT

[Docket No. FR-5415-FA-37]

Announcement of Funding Awards; Section 3 Program Coordination and Implementation; Fiscal Year 2010

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the Notice of Funding Availability (NOFA) for the Section 3 Program Coordination and Implementation for Fiscal Year (FY) 2010. This announcement contains the names and addresses of the award recipients selected for funding based on the rating and ranking of all applications and the amount of the awards.

FOR FURTHER INFORMATION CONTACT: Staci Gilliam, Director, Economic Opportunity Division, Office of Fair Housing and Equal Opportunity, Department of Housing and Urban Development, 451 Seventh Street SW., Room 5236, Washington, DC 20410. Telephone number (202) 402-3468 (this is not a toll-free number). Persons with hearing or speech impairments may access this number through TTY by calling the toll-free Federal Relay Service at 800-877-8339.

SUPPLEMENTARY INFORMATION: Section 3 of the Housing and Urban Development Act of 1968 (12 U.S.C. 1701u), as amended, and the implementing regulation at 24 CFR part 135 ensures that employment, training, and contracting opportunities generated by certain HUD financial assistance shall, to the greatest extent feasible, and consistent with existing Federal, State and local laws and regulations, be directed to low- and very low income persons, particularly those who are recipients of government assistance for housing, and to businesses that provide economic opportunities to low- and very low-income persons.

The Department published the Section 3 Coordination and Implementation Notice of Funding Availability (Section 3 NOFA) on June 7, 2011 announcing the availability of approximately $600,000 out of the Department's FY 2010 appropriation, to be utilized to help agencies that receive covered HUD funding build their capacity to meet the regulatory requirements of Section 3 by providing funds for the salary, fringe benefits, and other expenses associated with hiring one full-time Section 3 Coordinator for one year. Funding availability for discretionary grants included: Approximately 12 qualified applicants to receive awards of $50,000 via a lottery by region. Accordingly, HUD was able to fund at least one application within each of its ten regional offices. This Notice announces grant awards of approximately $600,000 to 12 grantees.

For the FY 2010 NOFA, the Department reviewed, evaluated and scored the applications received based on the criteria in the FY 2010 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A.

(The Catalog of Federal Domestic Assistance Number for currently funded Initiatives under the Section 3 Program is 14.412.)

Dated: April 18, 2013.
John D. Trasviña,
Assistant Secretary for Fair Housing and Equal Opportunity.

APPENDIX A—FY2010 Section 3 Program Coordination and Implementation Awards
Applicant Name | Contact | Region | Award Amt.
Section 3 Program Coordination and Implementation Grantees
City of Springfield, 36 Court Street, Springfield, MA 01103-1602 | Geraldine McCaffery, 413-787-6500 | 1 | $50,000.00
Housing Authority of the City of Trenton, 875 New Willow Street, Trenton, NJ 08638-1111 | Herbert Brown, 609-278-5026 | 2 | 50,000.00
Norfolk Redevelopment & Housing Authority, 201 Granby Street, 380 N. Bumby Avenue, Norfolk, VA 23510-1820 | Linda Davenport, 757-314-2026 | 3 | 50,000.00
Housing Authority of the City of Orlando, Orlando, FL 32803-6026 | Cynthia Curry, 407-895-3300 ext4002 | 4 | $50,000.00
Housing Authority of Joliet, 6 South Broadway Street, Joliet, IL 60436-1753 | Lisa Johnson, 815-727-0611 ext155 | 5 | 50,000.00
Housing Authority of the City of San Antonio, 818 S. Flores Street, San Antonio, TX 78204-1430 | Josefa Zatarain Flournoy, 210-477-6257 | 6 | 50,000.00
Housing Authority of Kansas City, 301 East Armour Boulevard, Jackson, MO 64112-1254 | Valentine Reid, 816-777-2390 | 7 | 50,000.00
Section 3 Program Coordination and Implementation
Housing Authority of the City, County of Denver, 777 Grant Street, Denver, CO 80230-3521 | Lynne Picard, 720-932-3052 | 8 | $50,000.00
Housing Authority of the County of San Joaquin, 448 S. Center Street, Stockton, CA 95203-3426 | Barbara Kauss, 209-460-5065 | 9 | 50,000.00
Housing Authority of Portland, 135 SW Ash Street, Portland, OR 97204-3540 | Cinna'mon Williams, 503-802-8533 | 10 | 50,000.00
Statesville Housing Authority, 110 W. Allison Street, Statesville, NC 28677-6616 | Zelda Turner, 704-761-4752 | 4 | 50,000.00
Sanford Housing Authority, 1000 Carthage Street, Sanford, NC 27330-4415 | Ken Armstrong, 919-776-7655 | 4 | 50,000.00

[FR Doc. 2013-10053 Filed 4-29-13; 8:45 am]

BILLING CODE 4210-67-P